DEPARTMENT OF COMMERCE

National Oceanic and Atmospheric Administration

50 CFR Part 660

[Docket No. 240514-0137; RTID 0648-XE832]

Fisheries Off West Coast States; Modification of the West Coast Salmon Fisheries; Inseason Action #19

AGENCY: National Marine Fisheries Service (NMFS), National Oceanic and Atmospheric Administration (NOAA), Commerce.

ACTION: Inseason modification of 2024-2025 management measures.

SUMMARY: NMFS announces one inseason action for the 2025 portion of the 2024-2025 ocean salmon fishery season. This inseason action modifies the commercial salmon fisheries in the area from Humbug Mountain, Oregon, to the Oregon/California border.

DATES: The effective date for this inseason action is set out in this document under the heading “Inseason Action” and the action remains in effect until superseded or modified.

FOR FURTHER INFORMATION CONTACT: Anna Heeter, (971) 361-8895, Anna.Heeter@noaa.gov.

SUPPLEMENTARY INFORMATION:

Background

The annual management measures for the 2024-2025 ocean salmon fisheries (89 FR 44553, May 21, 2024; 89 FR 53529, June 27, 2024) govern the commercial and recreational fisheries in the area from the United States/Canada border to the United States/Mexico border, effective from 0001 hours Pacific Daylight Time (PDT), May 16, 2024, until the effective date of the 2025-2026 management measures, as published in the Federal Register. These measures include early season fisheries in March through mid-May of 2025 that may be adjusted through inseason action when abundance forecasts for 2025 salmon returns become available. NMFS is authorized to implement inseason management actions to modify fishing seasons, catch limits, and quotas as necessary to provide fishing opportunities while meeting management objectives for the affected species (50 CFR 660.409). Inseason actions in the salmon fishery may be taken directly by NMFS (50 CFR 660.409(a)—Fixed inseason management provisions) or upon consultation with the Chairman of the Pacific Fishery Management Council (Council), and the appropriate State Directors (50 CFR 660.409(b)—Flexible inseason management provisions).

Management of the salmon fisheries is divided into two geographic areas: north of Cape Falcon (United States/Canada border to Cape Falcon, OR) and south of Cape Falcon (SOF) (Cape Falcon, OR, to the United States/Mexico border). The actions described in this document affect the SOF commercial salmon fishery, as set out under the heading Inseason Action below.

Consultation with the Council Chairman and representatives for the appropriate State Directors on these inseason actions occurred on April 7, 2025. This consultation included representatives from NMFS, Oregon Department of Fish and Wildlife, and California Department of Fish and Wildlife. Representatives from the Salmon Advisory Subpanel and the Salmon Technical Team (STT) were also present.

This inseason action was announced on NMFS' telephone hotline and U.S. Coast Guard radio broadcast when the action became effective. (50 CFR 660.411(a)(2)).

Inseason Actions

Inseason Action #19

Description of the action: Inseason action #19 closes the ocean salmon troll commercial fishery from Humbug Mountain, OR, to the Oregon/California border.

Effective dates: Inseason action #19 takes effect on May 1, 2025, at 12:01 a.m. and remains in effect until May 15, 2025 at 11:59 p.m. or until superseded.

Reason and authorization: At the March 4-11, 2025, Council meeting, NMFS took inseason action (90 FR 13840, March 27, 2025) to close the commercial salmon troll fishery in the area between Humbug Mountain and the Oregon/California border from March 25, 2025, through April 14, 2025. No inseason action was taken to close the area between Humbug Mountain and the Oregon/California border from April 15, 2025 through April 30, 2025. The fishery will open as scheduled from April 15, 2025 through April 30, 2025 before this inseason closes the fishery on May 1, 2025. Based on the STT's report on the stock abundance forecasts for 2025 for salmon stocks managed under the Pacific Coast Salmon Fishery Management Plan (FMP), the SOF ocean salmon fisheries will be constrained in 2025 by the very low abundance forecasts for Klamath River fall-run Chinook (KRFC) salmon and Sacramento River fall-run Chinook (SRFC) salmon. Taking inseason action to manage and conserve SOF ocean salmon fishery impacts through closure or shortened fisheries in this area will reserve the impacts on KRFC and SRFC salmon stocks potentially allowing more flexibility in decisions to be made at the April 9-15, 2025 Council meeting about the main 2025 season that is scheduled to begin May 16, 2025.

The NMFS West Coast Regional Administrator (RA) considered the 2025 abundance forecasts for KRFC and SRFC salmon stocks and the projected impacts in the ocean salmon fisheries, as modeled by the STT, and determined that the inseason action described below is necessary to meet management and conservation goals. This inseason action modifies landing and possession limits, quotas and/or fishing seasons under 50 CFR 660.409(b)(1)(i).

All other restrictions and regulations remain in effect as announced for the 2024-2025 ocean salmon fisheries (89 FR 44553, May 21, 2024; 89 FR 53529, June 27, 2024; 89 FR 61355, July 31, 2024; 89 FR 104895, December 26, 2024; 90 FR 13840, March 27, 2025) except as previously modified by inseason actions.

As provided by the inseason notice procedures at 50 CFR 660.411, actual notice of the described regulatory actions was given, prior to the time the actions became effective, by telephone hotline numbers 206-526-6667 and 800-662-9825, and by U.S. Coast Guard Notice to Mariners broadcasts on Channel 16 VHF-FM and 2182 kHz.

Classification

NMFS issues this action pursuant to section 305(d) of the MSA. This action is authorized by 50 CFR 660.409, which was issued pursuant to section 304(b) of the MSA, and is exempt from review under Executive Order 12866.

Pursuant to 5 U.S.C. 553(b)(3)(B), there is good cause to waive prior notice and an opportunity for public comment on this action, as notice and comment would be impracticable and contrary to the public interest. Prior notice and opportunity for public comment on this action was impracticable because NMFS had insufficient time to provide for prior notice and the opportunity for public comment between the time Chinook and coho salmon abundance, catch, and effort information were developed and fisheries impacts were calculated, and the time the fishery modifications had to be implemented in order to ensure that fisheries are managed based on the best scientific information available. As previously noted, actual notice of the regulatory action was provided to fishers through telephone hotlines and radio notifications. These actions comply with the requirements of the annual management measures for ocean salmon fisheries (89 FR 44553, May 21, 2024; 89 FR 53529, June 27, 2024), the FMP, and regulations implementing the FMP under 50 CFR 660.409 and 660.411.

There is good cause under 5 U.S.C. 553(d)(3) to waive the 30-day delay in effective date, as a delay in effectiveness of this action would allow fishing at levels inconsistent with the goals of the FMP and the current management measures.

Authority: 16 U.S.C. 1801 et seq.

Dated: April 14, 2025.
Kelly Denit,
Director, Office of Sustainable Fisheries, National Marine Fisheries Service.

[FR Doc. 2025-06584 Filed 4-16-25; 8:45 am]

BILLING CODE 3510-22-P